DEPARTMENT OF THE INTERIOR

National Park Service

[NPS-WASO-NRNHL-23111; PPWOCRADI0, PCU00RP14.R50000]

National Register of Historic Places; Notification of Pending Nominations and Related Actions

AGENCY: National Park Service, Interior.

ACTION: Notice.

SUMMARY: The National Park Service is soliciting comments on the significance of properties nominated before March 11, 2017, for listing or related actions in the National Register of Historic Places.

DATES: Comments should be submitted by April 27, 2017.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before March 11, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

GEORGIA

Pike County

New Hebron Baptist Church, 570 New Hebron Church Rd., Concord, SG100000906

IDAHO

Latah County

Adams, Abram A., House, 191 State St., Juliaetta, SG100000908

Valley County

Payette Lakes Club

1585 Warren Wagon Rd., McCall, SG100000905

IOWA

Keokuk County

Ramsey Building, 204 E. Broadway Ave., Keota, SG100000909

MISSOURI

Phelps County

Headquarters, Rolla Division of the Bureau of Mines, 1300 Bishop Ave., Rolla, SG100000910

St. Louis Independent city

Du-Good Chemical Laboratory Building, 1215-23 S. Jefferson Ave., St. Louis (Independent City), SG100000911

Leacock Sporting Goods Company Building, 921 Locust St., St. Louis (Independent City), SG100000912

MONTANA

Lewis and Clark County

Crump—Howard House, (African-American Heritage Places in Helena, Montana MPS), 1003 9th Ave., Helena, MP100000914

Dorsey Grocery and Residence, (African-American Heritage Places in Helena, Montana MPS), 401 N. Hoback St., Helena, MP100000915

Stillwater County

Pelton, Charles and Gladys, House, 303 W. Rosebud Rd., Fishtail, SG100000916

WISCONSIN

Jefferson County

Fort Atkinson Club, 211 S. Water St., Fort Atkinson, SG100000923

La Crosse County

Roosevelt School, 1307 Hayes St., La Crosse, SG100000924

WYOMING

Sublette County

Cora Townsite, 5 Noble Rd., Cora, SG100000925

An additional documentation has been received for the following resource(s):

VIRGINIA

Charles City County

Greenway, On VA 5, Charles City, AD69000336

Clarke County

Fairfield, E of jct. of Rtes. 340 and 610, Berryville vicinity, AD70000787

Fluvanna County

Pleasant Grove, Thomas Jefferson Pkwy, VA 53, Palmyra vicinity, AD04000843

Smyth County

Marion Historic District, Roughly along Main, Cherry, Strother, Lee, North College and College Sts., Marion, AD00000888

Marion Historic District (Boundary Increase), W. Cherry, E. Main, N. Main, Maple, N. Chestnut, Broad & N. Commerce Sts., Marion, AD11000487

Wythe County

Wytheville Historic District, Roughly bounded by Monroe, Eleventh, Jefferson and Twelfth Sts. and W. Railroad Ave., Wytheville, AD94001179

Authority: 60.13 of 36 CFR part 60.

Dated: March 17, 2017.
J. Paul Loether,
Chief, National Register of Historic Places/National Historic Landmarks Program.

[FR Doc. 2017-07366 Filed 4-11-17; 8:45 am]

BILLING CODE 4312-52-P